DEPARTMENT OF COMMERCE

International Trade Administration

[A-337-806]

Notice of Postponement of Preliminary Antidumping Duty Determination: IQF Red Raspberries From Chile

AGENCY: Import Administration, International Trade Administration, Department of Commerce.

SUMMARY: The Department of Commerce is extending the time limit for the preliminary determination in the antidumping duty investigation on individually quick frozen red raspberries from Chile.

EFFECTIVE DATE: December 18, 2001.

FOR FURTHER INFORMATION CONTACT: Cole Kyle (202) 482-1503 or Annika O'Hara (202) 482-3798; Import Administration, International Trade Administration, U.S. Department of Commerce, 14th Street and Constitution Avenue, NW., Washington, DC 20230.

Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (April 2001).

Postponement of Preliminary Determinations

On June 6, 2001, the Department published the initiation of the antidumping duty investigation of imports of individually quick frozen (IQF) red raspberries from Chile. The notice of initiation stated that we would make our preliminary determination for this antidumping duty investigation no later than 140 days after the date of issuance of the initiation (i.e., November 7, 2001). See Notice of Initiation of Antidumping Duty Investigations: IQF Red Raspberries from Chile, 66 FR 34407 (June 28, 2001). At the petitioners' ¹ request, the Department postponed the preliminary determination to December 12, 2001. See Notice of Postponement of Preliminary Antidumping Duty Determination: IQF Red Raspberries from Chile, 66 FR 53775 (October 24, 2001).

¹ The petitioners are the IQF Red Raspberries Fair Trade Committee and its members.

The Department is further postponing the preliminary determination in this investigation pursuant to section 351.205(b)(2) of the regulations and section 733 (c)(1)(B)(i)(II) of the Act. This further postponement is necessary to provide additional time for the Department to consider novel cost issues involved in this case. Because of this extraordinary complication, we are postponing the preliminary determination until no later than December 20, 2001.

This notice is published pursuant to sections 733(c) and 777(i) of the Act.

Dated: December 12, 2001.
Faryar Shirzad,
Assistant Secretary for Import Administration.

[FR Doc. 01-31163 Filed 12-17-01; 8:45 am]

BILLING CODE 3510-DS-P